DEPARTMENT OF DEFENSE

Department of the Army

Availability for Non-Exclusive, Exclusive, or Partially Exclusive Licensing of U.S. Patent Concerning Remote Mosaic Imaging System Having High-Resolution, Wide Field-of-View and Low Bandwidth

AGENCY: Department of the Army, DoD.

ACTION: Notice.

SUMMARY: In accordance with 37 CFR 404.6 and 404.7, announcement is made of the availability for licensing of the invention set forth in U.S. Patent No. 6,704,460 entitled “Remote mosaic imaging system having high-resolution, wide field-of-view and low bandwidth,” issued on March 9, 2004. The United States Government, as represented by the Secretary of the Army, has rights in this invention.

ADDRESSES: Commander, U.S. Army Research Development and Engineering Command, ATTN: AMSRD-AMR-AS-PT-TR, Bldg. 5400, Redstone Arsenal, AL 35898-5000.

FOR FURTHER INFORMATION CONTACT: Dr. Russ Alexander, Office of Research & Technology Applications, (256) 876-8743.

SUPPLEMENTARY INFORMATION: The present invention uses image frame synchronization and multiplexing to reduce the bandwidth needed to transmit the plurality of images to a remote location. The use of readily available and inexpensive commercial imaging sensors significantly decreases the cost while increasing the capabilities.

Brenda S. Bowen,
Army Federal Register Liaison Officer.

[FR Doc. E8-1747 Filed 1-30-08; 8:45 am]

BILLING CODE 3710-08-P